DEPARTMENT OF INTERIOR

Bureau of Land Management

[LLCO956000.L14200000 BJ0000]

Notice of Filing of Plats

AGENCY: Bureau of Land Management, Interior.

ACTION: Notice of Filing of Plats; Colorado.

SUMMARY: The Bureau of Land Management (BLM) Colorado State Office is publishing this notice to inform the public of the intent to file the land survey plats listed below, and to afford all affected parties a proper period of time to protest this action, prior to the plat filing.

DATES: Unless there are protests of this action, the filing of the plats described in this notice will happen on January 23, 2012.

ADDRESSES: BLM Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION: The plat and field notes of the dependent resurvey and survey in Township 50 North, Range 7 East, New Mexico Principal Meridian, Colorado, were accepted on November 18, 2011.

The plat and field notes of the dependent resurvey and remonumentation of certain corners in Township 15 South, Range 71 West, Sixth Principal Meridian, Colorado, were accepted on December 2, 2011.

Randy Bloom,
Chief Cadastral Surveyor for Colorado.

[FR Doc. 2011-32840 Filed 12-21-11; 8:45 am]

BILLING CODE 4310-JB-P